CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its proposed establishment of the Disability Accommodation Reimbursement Request Form. This form will be used by grantees to submit required information when requesting reimbursement for the costs associated with the provision of reasonable accommodation services to facilitate accessibility by members with disabilities. Completion of the necessary information is required to obtain grant funding reimbursement support from AmeriCorps State & National.

Copies of the information collection request can be obtained by contacting the office listed in the Addresses section of this Notice.

DATES: Written comments must be submitted to the individual and office listed in the ADDRESSES section by March 15, 2016.

ADDRESSES: You may submit comments, identified by the title of the information collection activity, by any of the following methods:

(1) By mail sent to: Corporation for National and Community Service, AmeriCorps State and National; Attention: Sean R. Scott, Assistant Program Officer, Room 9518A; 1201 New York Avenue NW., Washington, DC 20525.

(2) By hand delivery or by courier to: CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Sean R. Scott, 202-606-3866, or by email at accommodations@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

Grantees provide the information to request reimbursement for services associated with reasonable accommodation of AmeriCorps service members. The information will be collected electronically via email by submission of this form and the receipt(s) for services.

Current Action

This is a new information collection request. The form requests a confirmation if outside resources were consulted, the name of the applying organization, grant number, single point of contact for the organization, POC email and telephone number, attention to and address to which the check should be remitted, member NSPID, type of disability, type of accommodation, a brief statement regarding how the accommodation helps the member achieve full participation, requested reimbursement amount, if the reimbursement is quarterly of one-time and the projected cost for ongoing requests. All measures have been taken to reduce the presence of personally identifiable information.

The information collection will otherwise be used in the same manner as the existing application. CNCS also seeks to continue using the current application until the revised application is approved by OMB. The current application is due to expire on TBD.

Type of Review: New.

Agency: Corporation for National and Community Service.

Title: Disability Accommodation Reimbursement Request Form.

OMB Number: None.

Agency Number: None.

Affected Public: Grantees and service members.

Total Respondents: Unknown.

Frequency: Intermittent.

Average Time per Response: Averages 10 minutes.

Estimated Total Burden Hours: 20 minutes.

Total Burden Cost (capital/startup): None.

Total Burden Cost (operating/maintenance): None.

Comments submitted in response to this notice will be summarized and/or included in the request for Office of Management and Budget approval of the information collection request; they will also become a matter of public record.

Dated: January 11, 2016.
Jennifer Bastress Tahmasebi,
Deputy Director, AmeriCorps State and National.

[FR Doc. 2016-00712 Filed 1-14-16; 8:45 am]

BILLING CODE 6050-28-P